DEPARTMENT OF THE INTERIOR

Bureau of Land Management

[LLWO210000.15X.L11100000.PH0000 LXSISGST0000]

Notice of Proposed Withdrawal; Sagebrush Focal Areas; Idaho, Montana, Nevada, Oregon, Utah, and Wyoming and Notice of Intent To Prepare an Environmental Impact Statement

AGENCY: Bureau of Land Management, Interior.

ACTION: Notice.

SUMMARY: The Assistant Secretary of the Interior for Land and Minerals Management has approved an application to withdraw approximately 10 million acres of public and National Forest System lands identified as Sagebrush Focal Areas in Idaho, Montana, Nevada, Oregon, Utah, and Wyoming from location and entry under the United States mining laws to protect the Greater Sage-Grouse and its habitat from adverse effects of locatable mineral exploration and mining, subject to valid existing rights. This notice temporarily segregates the lands for up to 2 years while the application is processed. This notice also provides the public with an opportunity to comment on the proposed withdrawal application. In addition, this notice initiates the public scoping process for an Environmental Impact Statement (EIS) to analyze and disclose impacts of the proposed withdrawal.

DATES: Comments on the proposed withdrawal application or scoping comments on issues to be analyzed in the EIS must be received by December 23, 2015. Please clearly indicate whether comments are in regard to the withdrawal application or scoping comments on the EIS. The date(s) and location(s) of any scoping meetings will be announced at least 15 days in advance through local media, newspapers and the BLM Web site at: http://www.blm.gov/wo/st/en/prog/more/sagegrouse.html. In order to be included in the Draft EIS, all comments must be received prior to the close of the 90-day scoping period or 15 days after the last public meeting, whichever is later. Additional opportunities for public participation will be available upon publication of the Draft EIS.

ADDRESSES: Written comments should be sent to the BLM Director, 1849 C Street NW., (WO-200), Washington, DC 20240 or electronically to sagebrush_withdrawals@blm.gov.

FOR FURTHER INFORMATION CONTACT: Mark A. Mackiewicz, PMP, Senior National Project Manager BLM, by telephone at 435-636-3616, or by email at mmackiew@blm.gov; or one of the BLM state offices listed below. Persons who use a telecommunications device for the deaf (TDD) may call the Federal Information Relay Service (FIRS) at 1-800-877-8339 to reach the BLM contact person. The FIRS is available 24 hours a day, 7 days a week, to leave a message or question with the above individual. You will receive a reply during normal business hours.

SUPPLEMENTARY INFORMATION: The Bureau of Land Management (BLM) filed an application requesting the Assistant Secretary of the Interior for Land and Minerals Management to withdraw, subject to valid existing rights, approximately 10 million acres of public and National Forest System lands located in the States of Idaho, Montana, Nevada, Oregon, Utah and Wyoming from location and entry under the United States mining laws, but not from leasing under the mineral or geothermal leasing or mineral materials laws. Copies of the map entitled “BLM Petition/Application for Sagebrush Focal Areas Withdrawal” depicting the lands proposed for withdrawal are posted on our Web site at http://www.blm.gov/wo/st/en/prog/more/sagegrouse.html and are also available from the BLM offices listed below:

Idaho State Office, 1387 S. Vinnell Way, Boise, Idaho 83709.

Montana State Office, 5001 Southgate Drive, Billings, Montana 59101-4669.

Nevada State Office, 1340 Financial Boulevard, Reno, Nevada 89502.

Oregon State Office, 1220 SW 3rd Avenue, Portland, Oregon 97204.

Utah State Office, 440 West 200 South, Suite 500, Salt Lake City, Utah 84101.

Wyoming State Office, 5353 Yellowstone Road, Cheyenne, Wyoming 82009.

The Sagebrush Focal Areas include all public and National Forest System lands identified in the townships below:

Idaho

Boise Meridian

T. 1 N., Rs. 17 and 29 E.,

Tps. 1 and 10 N., R. 18 E.,

Tps. 1 and 9 to 12 N., R. 19 E.,

Tps. 1, 2, and 8 to 12 N., R. 20 E.,

Tps. 1, 2, and 5 to 12 N., R. 21 E.,

Tps. 1, 2, and 4 to 11 N., R. 22 E.,

Tps. 1 to 13 N., Rs. 23 and 24 E.,

Tps. 9, 10, and 12 N., R. 24½ E.,

Tps. 2 to 12, 15 and 16 N., R. 25 E.,

Tps. 2 to 5, 8 to 11, and 13 to 16 N., R. 26 E.,

Tps. 1, 2, 4 to 11, and 13 to 16 N., R. 27 E.,

Tps. 1, 4 to 9, and 13 to 15 N., R. 28 E.,

Tps. 1 and 6 to 9 N., R. 30 E.,

Tps. 8 and 9 N., Rs. 31 and 32 E.,

Tps. 7 to 9 N., Rs. 34 and 35 E.,

Tps. 9 to 12 N., R. 36 E.,

Tps. 10 to 12 N., R. 37 E.,

Tps. 10 and 11 N., R. 38 E.,

Tps. 9 to 11 N., R. 39 E.,

Tps. 8 to 11 N., R. 40 E.,

Tps. 8 to 10 N., R. 41 E.,

Tps. 8 to 16 S., R. 1 W.,

Tps. 9 to 16 S., R. 2 W.,

Tps. 10 to 16 S., R. 3 W.,

Tps. 11 to 16 S., R. 4 W.,

Tps. 12 to 16 S., R. 5 W.,

Tps. 13 to 16 S., R. 6 W.,

Tps. 8 to 14, and 16 S., R. 1 E.,

Tps. 7 to 14 S., R. 2 E.,

Tps. 8 to 14 S., R. 3 E.,

Tps. 8 to 16 S., R. 4 E.,

Tps. 9, and 11 to 16 S., R. 5 E.,

Tps. 11 to 16 S., R. 6 E.,

Tps. 13 to 16 S., Rs. 7 and 8 E.,

Tps. 14 to 16 S., Rs. 9 and 10 E.,

Tps. 3 and 4 and 14 to 16 S., Rs. 11E.,

Tps. 2 to 4 and 13 to 16 S., R. 12 E.,

Tps. 2 to 4 and 12 to 16 S., Rs. 13 and 14 E.,

Tps. 1 to 4 and 12 to 16 S., Rs. 15 and 17 E.,

Tps. 1 to 4, and 13 to 16 S., R. 16 and 18 E.,

Tps. 1 to 3 S., R. 19 E.,

Tps. 1 to 4 S., Rs. 20 and 24 E.,

Tps. 1 to 4, and 14 S., R. 21 E.,

Tps. 1 to 5, and 14 S., R. 22 E.,

Tps. 1 to 6 S., R. 23 E.,

Tps. 1 to 3 S., Rs. 25, and 27 to 29 E.,

T. 1 S., R. 30 E.

The areas described contain approximately 3,854,622 acres in Bingham, Blaine, Butte, Camas, Cassia, Clark, Custer, Elmore, Fremont, Gooding, Jefferson, Lemhi, Lincoln, Minidoka, Owyhee, Power, and Twin Falls Counties.

Montana

Principal Meridian

Tps. 21 to 23 N., R. 20 E.,

Tps. 20 to 23 N., R. 21 E.,

Tps. 20 N., R. 22 E.,

Tps. 19 to 21, 23 and 24 N., R. 23 E.,

Tps. 18 to 21, 23 and 24 N., Rs. 24 and 25 E.,

Tps. 18 to 20, 22 to 25, 27 and 28 N., R. 26 E.,

T. 24 N., R. 26½ E.,

Tps. 19 to 29 N., R. 27 E.,

Tps. 20, 22 to 24 and 26 to 29 N., R. 28 E.,

Tps. 22 to 27 N., R. 29 E.,

Tps. 22 to 26 N., R. 30 E.,

Tps. 23 to 26 N., Rs. 31 and 32 E.,

Tps. 23 to 29 N., Rs. 33, 35 and 36 E.,

Tps. 24 to 29 N., Rs. 34 and 37 E.,

Tps. 26 and 27 N., R. 36½ E.,

Tps. 24 to 28 N., R. 38 E.,

Tps. 24 to 27 N., R. 39 E.,

T. 26 N., R. 40 E.

The areas described contain approximately 983,156 acres in Fergus, Garfield, Petroleum, Phillips, and Valley Counties.

Nevada

Mount Diablo Meridian

Tps. 44, 46, and 47 N., R. 20 E.,

Tps. 43 to 47 N., Rs. 21, 40, 45, 53, 54, 55, 69, and 70 E.,

Tps. 43, 44, and 47 N., R. 22 E.,

T. 47 N., R. 23 and 23½ E.,

T. 45 N., R. 31 E.,

Tps. 44 to 47 N., Rs. 32, 33, 41 and 42 E.,

Tps. 44 to 48 N., Rs. 34 to 36 E.,

Tps. 45 to 47 N., R. 37 E.,

Tps. 42 to 44 N., R. 38 E.,

Tps. 42 to 47 N., Rs. 39, 46, 49, 50, 57, 58, 60 to 62, 67 and 68 E.,

Tps. 44 to 46 N., R. 43 E.,

Tps. 40 to 47 N., R. 47 E.,

Tps. 41 to 47 N., Rs. 48, and 63 to 66 E.,

T. 44 N., R. 52 E.,

Tps. 46 and 47 N., R. 54½ E.,

Tps. 42 to 45, and 47 N., R. 56 E.,

Tps. 42 to 44, 46 and 47 N., R. 59 E.,

The areas described contain approximately 2,797,399 acres in Elko, Humboldt, and Washoe Counties.

Oregon

Willamette Meridian

Tps. 35 and 36 S., R. 21 E.,

Tps. 32 to 40 S., R. 22 E.,

Tps. 31 to 40 S., Rs. 23 and 24 E.,

Tps. 34 to 41 S., Rs. 25, 29, and 46 E.,

Tps. 33 and 34, 38 to 41 S., R. 26 E.,

Tps. 32 to 41 S., R. 27 and 28 E.,

Tps. 35 to 41 S., R. 30 E.,

Tps. 36 to 41 S., Rs. 31, 40 to 43, 47 and 48 E.,

Tps. 37 to 40 S., R. 32 E.,

T. 37 S., R. 32½ E.,

Tps. 38 to 40 S., R. 33 E.,

Tps. 40 and 41 S., R. 36 E.,

Tps. 36 and 37, 39 to 41 S., R. 37 E.,

Tps. 38 to 41 S., Rs. 38 and 39 E.,

Tps. 33 to 41 S., Rs. 44 and 45 E.,

Tps. 37 to 41 S., R. 49 E.

The areas described contain approximately 1,929,580 acres in Harney, Lake, and Malheur Counties.

Utah

Salt Lake Meridian

Tps. 9 and 10 N., R. 3 E.,

Tps. 9, 10, 10½, and 11 N., R. 4 E.,

Tps. 9 to 12 N., R. 5 E.,

Tps. 9 to 13 N., Rs. 6 to 8 E.,

Tps. 12, 14, and 15 N., R. 17 W.,

Tps. 11 to 15 N., R. 18 W.,

Tps. 10 to 15 N., R. 19 W.

The areas described contain approximately 230,808 acres in Box Elder, Cache, and Rich Counties.

Wyoming

6th Principal Meridian

Tps. 27 and 28 N., R. 99 W.,

Tps. 27 to 29 N., R. 100 W.,

Tps. 25, 28, and 29 N., R. 101 W.,

Tps. 28 N., R. 102 W.,

Tps. 22 N., Rs. 104 and 120 W.,

Tps. 22, and 25 to 27 N., R. 105 W.,

Tps. 26 and 27 N., Rs. 106 to 108 W.,

T. 24 N., R. 112 W.,

Tps. 23 and 24 N., Rs. 113 and 115 W.,

Tps. 22 to 24 N., Rs. 114 and 119 W.,

Tps. 20 to 24 N., R. 117 W.,

Tps. 21 to 24 N., R. 118 W.,

Tps. 19 and 20 N., R. 121 W.

The areas described contain approximately 252,162 acres in Fremont, Lincoln, Sublette, Sweetwater, and Uinta Counties.

The total areas described aggregate approximately 10 million acres of public and National Forest System lands in the six states and counties listed above.

The Assistant Secretary of the Interior for Land and Minerals Management has approved the BLM's application. Therefore, this document constitutes a withdrawal proposal of the Secretary of the Interior (43 CFR 2310.1-3(e)).

The purpose of the proposed withdrawal of the Sagebrush Focal Areas in Priority Habitat Management Areas is to protect the Greater Sage-Grouse and its habitat from adverse effects of locatable mineral exploration and mining subject to valid existing rights.

The use of a right-of-way, interagency or cooperative agreement, or surface management by the BLM under 43 CFR part 3715 or 43 CFR part 3809 regulations or by the Forest Service under 36 CFR part 228 would not adequately constrain nondiscretionary uses, which could result in loss of critical sage-grouse habitat.

There are no suitable alternative sites for the withdrawal.

No water rights would be needed to fulfill the purpose of the requested withdrawal.

Records relating to the application may be examined by contacting the BLM offices listed above.

For a period until December 23, 2015, all persons who wish to submit comments, suggestions, or objections in connection with the proposed withdrawal may present their views in writing to the BLM Director, 1849 C Street NW., (WO-210), Washington, DC 20240, or electronically to sagebrush_withdrawals@blm.gov.

All comments received will be considered before any final action is taken on the proposed withdrawal.

The purpose of the public scoping process is to determine relevant issues that will influence the scope of the environmental analysis, including alternatives, and guide the process for developing the EIS. At present, the BLM has identified the following preliminary issues: Air quality/climate, American Indian resources, cultural resources, wilderness, mineral resources, public health and safety, recreation, socio-economic conditions, soil resources, soundscapes, special status species, vegetation resources, visual resources, water resources, and fish and wildlife resources.

Because of the nature of a withdrawal of public lands from operation of the mining law, mitigation of its effects is not likely to be an issue requiring detailed analysis. However, consistent with Council on Environmental Quality regulations implementing NEPA (40 CFR 1502.14), the BLM will consider whether and what kind of mitigation measures may be appropriate to address the reasonably foreseeable impacts to resources from the approval of this proposed withdrawal.

The BLM will utilize and coordinate the NEPA scoping process to help fulfill the public involvement process under the National Historic Preservation Act (54 U.S.C. 306108) as provided in 36 CFR 800.2(d)(3). The information about historic and cultural resources within the area potentially affected by the proposed action will assist the BLM in identifying and evaluating impacts to such resources.

The BLM will consult with Indian tribes on a government-to-government basis in accordance with Executive Order 13175 and other policies. Tribal concerns, including impacts to Indian trust assets and potential impacts to cultural resources, will be given due consideration. Federal, State, and local agencies, along with tribes and other stakeholders that may be interested in or affected by the proposed withdrawal that the BLM is evaluating, are invited to participate in the scoping process and, if eligible, may request or be requested by the BLM to participate in the development of the environmental analysis as a cooperating agency.

Comments including names and street addresses of respondents will be available for public review at the BLM Washington Office at the address noted above, during regular business hours Monday through Friday, except Federal holidays. Before including your address, phone number, email address, or other personal identifying information in your comment, you should be aware that your entire comment—including your personal identifying information—may be made publicly available at any time. While you can ask us in your comment to withhold your personal identifying information from public review, we cannot guarantee that we will be able to do so.

For a period until September 24, 2017, subject to valid existing rights, the lands described in this notice will be segregated from location and entry under the United States mining laws, unless the application/proposal is denied or canceled or the withdrawal is approved prior to that date. Licenses, permits, cooperative agreements, or discretionary land use authorizations may be allowed during the temporary segregative period, but only with approval of the authorized officer of the BLM or the USFS.

The application will be processed in accordance with the regulations set forth in 43 CFR part 2300.

Neil Kornze,
Director, Bureau of Land Management.

[FR Doc. 2015-24212 Filed 9-22-15; 4:15 pm]

BILLING CODE 4310-84-P